DEPARTMENT OF TRANSPORTATION

Federal Aviation Administration

14 CFR Part 71

[Docket No. 2003-16329; Airspace Docket 02-ANM-01]

Revision of Class E Airspace; Cheyenne, WY

AGENCY: Federal Aviation Administration (FAA), DOT.

ACTION: Final rule.

SUMMARY: This final rule will revised Class E airspace at Cheyenne, WY. New Instrument Flight Rules (IFR) routes sequences from the en route environment to/from Cheyenne Regional Airport/Jerry Olson Field makes this proposal necessary. Additional controlled airspace extending upward from 1,200 feet above the surface is necessary for the safety of aircraft. This action also correct as an error in the geographic coordinates of the Cheyenne Very High Frequency Omnidirectional Range Colocated Tactical Air Navigation and the airport designation.

DATES: Effective October 28, 2005.

FOR FURTHER INFORMATION CONTACT: Ed Haesekeer, Federal Aviation Administration, Air Traffic Organization, Western En Route and Oceanic Area Office, Airspace Branch, 1601 Lind Avenue SW., Renton, WA, 98055-4056; Telephone (425) 227-2527.

SUPPLEMENTARY INFORMATION:

History

On April 18, 2005, the FAA published in the Federal Register a notice of proposed rulemaking to modify Class E airspace at Cheyenne, WY (70 FR 20093). New routes sequences from the en route environment to/from Cheyenne Regional Airport/Jerry Olson Field makes this proposed necessary.

Interested parties were invited to participate in this rule making proceeding by submitting written comments on the proposed to the FAA. No comments were received. Class E airspace designation are published in paragraph 6005 of FAA Order 7400.9N dated September 1, 2005, and effective September 16, 2005, which is incorporated by reference in 14 CFR 71.1. The Class E airspace designation listed in this document will be published subsequently in that order.

The Rule

This amendment to 14 CFR part 71 revises Class E airspace at Cheyenne, WY. New IFR routes sequences through this airspace from the en route environment to/from Cheyenne Regional Airport/Jerry Olson Field makes this rules necessary. Additional controlled airspace extending upward from 1,200 feet above the surface is necessary for the safety of IFR aircraft. This rule also corrects an error in the geographic coordinates of the Cheyenne VORTAC and the airport's designation as stated in the Notice of Proposed Rule Making.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS.

1. The authority citation for 14 CFR part 71 continues to read as follows:

Authority: 19 U.S.C. 106(g), 40103, 40113, 40120, E.O. 108954, 24 FR 9565, 3 CFR, 1959-1963 Comp., p. 389.

§ 71.1 [Amended]

2. The incorporation by reference in 14 CFR part 71.1 of the Federal Aviation Administration Order 7400.9N, Airspace Designations and Reporting Points, dated September 1, 2005, and effective September 15, 2005, is amended as follows:

Paragraph 6005 Class E Airspace area extending upward from 700 feet or more above the surface of the earth

* * * * *

ANM WY E5 Cheyenne WY [Revised]

Cheyenne Regional/Jerry Olson Field, Cheyenne, WY

(Lat. 41°09′21″ N., long. 104°48′43″ W.)

Cheyenne VORTAC

(Lat. 41°12′39″ N., long. 104°46′22″ W.)

That airspace extending upward from 700 feet above the surface within a 12.2 mile radius of Cheyenne Regional/Jerry Olson Field and within 5.3 miles southeast an d7 miles northwest of the Cheyenne VORTAC 029° radial extending from the 12.2 mile radius to 12.2 miles northeast of the VORTAC, and within a 16.6 miles radius of Cheyenne VORTAC from 268° radial clockwise to the 343° radial; that airspace extending upward from 1,200 feet above the surface beginning at the intersection of airway V-100 and long. 104°00′00″ W.; thence south along long. 104°99′00″ W. to V-207; thence southeast along V-207 to V-101; thence west along V-101 to V-85; thence north along V-85 to V-100; thence east along V-100 to point of origin; excluding the portions within the Laramie, General Brees Field, WY, Class E airspace area.

* * * * *

Issued in Seattle, Washington on September 13, 2005.
R.D. Engelke,
Acting Area Director, Western En Route and Oceanic Operations.

[FR Doc. 05-20465 Filed 10-12-05; 8:45 am]

BILLING CODE 4910-13-M